DEPARTMENT OF TRANSPORTATION

Federal Aviation Administration

Agency Information Collection Activities: Requests for Comments; Clearance of Renewed Approval of Information Collection: Fractional Aircraft Ownership Programs

AGENCY: Federal Aviation Administration (FAA), DOT.

ACTION: Notice and request for comments.

SUMMARY: In accordance with the Paperwork Reduction Act of 1995, FAA invites public comments about our intention to request the Office of Management and Budget (OMB) approval to renew an information collection. Fractional Ownership is a program that offers increased flexibility in aircraft ownership. Owners purchase shares of an aircraft and agree to share their aircraft with others having an ownership share in that same aircraft. Owners agree to put their aircraft into a “pool” of other shared aircraft and to lease their aircraft to another owner in that pool. The information collected is used to determine if these entities are operating in accordance with the minimum safety standards of these regulations. The FAA will use the information it reviews and collects to evaluate the effectiveness of the program and make improvements as needed, and ensure compliance and adherence to regulations.

DATES: Written comments should be submitted by September 21, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION:

OMB Control Number: 2120-0684.

Title: Fractional Aircraft Ownership Programs.

Form Numbers: There are no FAA forms associated with this collection.

Type of Review: This is a renewal of an existing information collection.

Background: Each fractional ownership program manager and each fractional owner must comply with the requirements of 14 CFR part 91, subpart K (91K). Information-collection requirements under 91K include submission for FAA approval of management specifications, which comprise: Lists of fractional owners and types of aircraft; registration markings and serial numbers; authorizations, procedures and limitations under which operations are to be conducted; time limitations, or standards for determining time limitations, for overhauls, inspections, and checks for airframes, engines, propellers, rotors, appliances, and emergency equipment of aircraft; the specific location of the program manager's principal base of operations and the program manager's mailing address; other business names in use; authorization of methods for controlling weight and balance; deviations and exemptions from requirements of 91K, if applicable; and other information the Administrator deems necessary. The FAA requires this information to ensure that the operators' specifications comply with the requirements of the rule. In addition, the FAA imposes recordkeeping requirements on 91K operators. These include: creating and retaining management contracts between fractional owners and operators; advance notice of non-program aircraft substitution; briefing fractional owners on operational control responsibilities; issuance of management specifications; internal safety reporting; preparation and retention of manuals; maintenance of current aircraft and pilot records; flight scheduling; pilot-in-command designation; passenger safety briefings (oral and on information cards); preparation of proving-test programs; provision of drug and alcohol misuse education; and various personnel, maintenance, and minimum equipment list documentation. These requirements help ensure that these operators have procedures in place to facilitate compliance with the requirements of the rule.

Information is collected electronically to the extent practicable, and the FAA likewise encourages and facilitates electronic recordkeeping. The FAA uses an automated Operations Specifications subsystem to issue management specifications to fractional ownership program managers. This system allows management companies to electronically generate and electronically sign the management specifications. Use of this automated system is required for the fractional ownership programs. While legal contractual documents, passenger briefing cards, and certain manuals must be kept in paper form for legal and safety reasons, all other records and reports mandated by 91K can be created, transmitted and retained electronically.

The FAA will use the information it reviews and collects to evaluate the effectiveness of the program and make improvements as needed, and ensure compliance and adherence to the minimum safety standards of these regulations.

Respondents: 8 fractional aircraft program managers/operators.

Frequency: Information is collected on occasion.

Estimated Average Burden per Response: 1 hour, 20 minutes.

Estimated Total Annual Burden: 13,736 hours, or 1,717 hours per respondent.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on July 17, 2018.
Karen Shutt,
Manager, Performance, Policy, and Records Management Branch, ASP-110.

[FR Doc. 2018-15728 Filed 7-20-18; 8:45 am]

BILLING CODE 4910-13-P